DEPARTMENT OF HEALTH AND HUMAN SERVICES

National Institutes of Health

Center for Scientific Review; Amended Notice of Meeting

Notice is hereby given of a change in the meeting of the Center for Scientific Review Special Emphasis Panel, September 24, 2015, 10:00 a.m. to September 24, 2015, 6:00 p.m., National Institutes of Health, 6701 Rockledge Drive, Bethesda, MD, 20892 which was published in the Federal Register on August 17, 2015, 80 FR 49252.

The meeting will be held on October 21, 2015. The meeting location and time remain the same. The meeting is closed to the public.

Dated: August 24, 2015.
David Clary,
Program Analyst, Office of Federal Advisory Committee Policy.

[FR Doc. 2015-21269 Filed 8-26-15; 8:45 am]

BILLING CODE 4140-01-P